DEPARTMENT OF TRANSPORTATION

Federal Aviation Administration

14 CFR Part 39

[Docket No. FAA-2021-0884; Project Identifier AD-2021-00998-A; Amendment 39-21785; AD 2021-22-12]

RIN 2120-AA64

Airworthiness Directives; Honda Aircraft Company LLC Airplanes

AGENCY: Federal Aviation Administration (FAA), DOT.

ACTION: Final rule; request for comments.

SUMMARY: The FAA is adopting a new airworthiness directive (AD) for certain Honda Aircraft Company LLC (Honda) Model HA-420 airplanes. This AD was prompted by a report that the flap pushrod assemblies are susceptible to corrosion. This AD requires removing and cleaning the inner diameter of the flap control pushrods and repetitively applying corrosion inhibiting compound (CIC) to this area. The FAA is issuing this AD to address the unsafe condition on these products.

DATES: This AD is effective November 19, 2021.

The Director of the Federal Register approved the incorporation by reference of a certain publication listed in this AD as of November 19, 2021.

The FAA must receive comments on this AD by December 20, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Honda Aircraft Company LLC, 6430 Ballinger Road, Greensboro, NC 27410; phone: (336) 662-0246; website: https://www.hondajet.com. You may view this service information at the FAA, Airworthiness Products Section, Operational Safety Branch, 901 Locust, Kansas City, MO 64106. For information on the availability of this material at the FAA, call (816) 329-4148. It is also available at https://www.regulations.gov by searching for and locating Docket No. FAA-2021-0884.

Examining the AD Docket

You may examine the AD docket at https://www.regulations.gov by searching for and locating Docket No. FAA-2021-0884; or in person at Docket Operations between 9 a.m. and 5 p.m., Monday through Friday, except Federal holidays. The AD docket contains this final rule, any comments received, and other information. The street address for the Docket Operations is listed above.

FOR FURTHER INFORMATION CONTACT: Samuel Kovitch, Aviation Safety Engineer, Atlanta ACO Branch, FAA, 1701 Columbia Avenue, College Park, GA 30337; phone: (404) 474-5570; email: samuel.kovitch@faa.gov.

SUPPLEMENTARY INFORMATION:

Background

The FAA was informed by Honda that the inner diameter of the flap control pushrod assemblies for certain Honda Model HA-420 airplanes are susceptible to corrosion, reducing the capability of the flap control pushrod to withstand normal operating conditions and resulting in its eventual failure. The corrosion was initially discovered during scheduled maintenance when a visual inspection of the flap control pushrod assemblies revealed signs of corrosion at the drain holes of the welded tube center section of inboard and outboard assemblies. Later borescope inspections of the same airplane inside the welded tube section revealed pitting and discoloration of interior walls. On a later scheduled inspection of another airplane, similar corrosion was noted.

While the specific root cause of the corrosion is still under investigation, the flap control pushrods on the affected airplanes are susceptible to corrosion because the material of the pushrod is a low-alloy steel that had incomplete coverage of primer and CIC in the inner diameter. This incomplete coverage is potentially due to welding process spillover material creating voids that the primer could not reach and is exacerbated by general incomplete application. Drainage holes in the flap pushrod allow the external environment direct access to the inner diameter of the tube, exposing the improperly treated surface to the elements. As a result, corrosion may begin to develop immediately after the airplane enters service.

As a large majority of the fleet have been in service for longer than 12 months, during which time corrosion has progressed, the FAA finds the need for immediate action to preclude failure of the flap control pushrod. The compliance time of this AD prioritizes the affected fleet by risk and simultaneously requires all airplanes to be serviced as soon as possible.

Failure of a flap control pushrod, if not prevented, could result in uncontrolled and un-annunciated flap asymmetry, which could result in loss of control of the airplane. The FAA is issuing this AD to address the unsafe condition on these products.

FAA's Determination

The FAA is issuing this AD because the agency has determined the unsafe condition described previously is likely to exist or develop in other products of the same type design.

Related Service Information Under 1 CFR Part 51

The FAA reviewed Honda Aircraft Company Service Bulletin No. SB-420-27-008, dated August 31, 2021. This service information specifies procedures for removing and cleaning the inner diameter of the flap control pushrods and repetitively applying CIC to this area. This service information is reasonably available because the interested parties have access to it through their normal course of business or by the means identified in ADDRESSES.

AD Requirements

This AD requires accomplishing the actions specified in the service information already described.

Interim Action

The FAA considers this AD to be an interim action. Honda is currently considering implementing design changes to preclude the need for repetitively applying CIC and more permanently address the unsafe condition identified in this AD. Once these design changes are developed, approved, and available, the FAA may consider additional rulemaking.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because the corrosion reduces the fatigue life and potentially initiates cracks in the pushrod. Crack propagation in a steel part could lead to immediate failure, resulting in un-annunciated, uncontrolled, and unrecoverable flap asymmetry. Because there is no primer or CIC on the affected part to prevent the corrosion from developing and worsening, the corrosion may appear immediately in service. As a large majority of the fleet has been in service for 12 to 24 months, during which time the corrosion has progressed, it is necessary to mitigate this unsafe condition by requiring the corroded pushrods to be serviced immediately. Also essential to correct the unsafe condition in the interim while a long term solution is developed is a requirement to reapply the CIC every 90 days to prevent the corrosion from developing further. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2021-0884 and Project Identifier AD-2021-00998-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Samuel Kovitch, Aviation Safety Engineer, Atlanta ACO Branch, FAA, 1701 Columbia Avenue, College Park, GA 30337. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 44 airplanes of U.S. registry.

The FAA estimates the following costs to comply with this AD:

Estimated Costs
Action | Labor cost | Parts cost | Cost per product | Cost on U.S. operators
Remove, clean, and apply CIC to the flap control pushrods | 22 work-hours × $85 per hour = $1,870 | $70 | $1,940 | $85,360
Reapply CIC every 90 days (cost for each time) | 1 work-hour × $85 per hour = $85 | 70 | 155 | 6,820

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-22-12 Honda Aircraft Company LLC: Amendment 39-21785; Docket No. FAA-2021-0884; Project Identifier AD-2021-00998-A.

(a) Effective Date

This airworthiness directive (AD) is effective November 19, 2021.

(b) Affected ADs

None.

(c) Applicability

This AD applies to Honda Aircraft Company LLC Model HA-420 airplanes, serial numbers 42000153 through 42000158 and 42000160 through 42000206, certificated in any category.

(d) Subject

Joint Aircraft System Component (JASC) Code 2752, Trailing Edge Flap Actuator.

(e) Unsafe Condition

This AD was prompted by a report that the flap pushrod assemblies are susceptible to corrosion. The FAA is issuing this AD to prevent failure of the flap control pushrod. The unsafe condition, if not addressed, could result in uncontrolled and un-annunciated flap asymmetry with consequent loss of control of the airplane.

(f) Compliance

Comply with this AD within the compliance times specified, unless already done.

(g) Required Actions

(1) Within 90 days after the effective date of this AD or 18 months after issuance of the first standard certificate of airworthiness, whichever occurs later: Remove, clean, apply corrosion inhibiting compound (CIC) to, and reinstall the left and right inboard and outboard flap pushrod assemblies by following steps 3.0(3) through 3.0(6) of the Accomplishment Instructions in Honda Aircraft Company Service Bulletin No. SB-420-27-008, dated August 31, 2021.

(2) Within 90 days or 300 hours time-in-service (TIS), whichever occurs first after accomplishing the actions required by paragraph (g)(1) of this AD, and thereafter at intervals not to exceed 90 days or 300 hours TIS, whichever occurs first: Reapply CIC by following step 3.0(5)(a) through (c) of the Accomplishment Instructions in Honda Aircraft Company Service Bulletin No. SB-420-27-008, dated August 31, 2021.

(i) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j) of this AD.

(2) Before using any approved AMOC, notify your appropriate principal inspector, or lacking a principal inspector, the manager of the local flight standards district office/certificate holding district office.

(3) For service information that contains steps that are labeled as Required for Compliance (RC), the following provisions apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(j) Related Information

For more information about this AD, contact Samuel Kovitch, Aviation Safety Engineer, Atlanta ACO Branch, FAA, 1701 Columbia Avenue, College Park, GA 30337; phone: (404) 474-5570; email: samuel.kovitch@faa.gov.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) Honda Aircraft Company Service Bulletin No. SB-420-27-008, dated August 31, 2021.

(ii) [Reserved]

(3) For Honda Aircraft Company LLC service information identified in this AD, contact Honda Aircraft Company LLC, 6430 Ballinger Road, Greensboro, NC 27410; phone: (336) 662-0246; website: https://www.hondajet.com.

(4) You may view this service information at the FAA, Airworthiness Products Section, Operational Safety Branch, 901 Locust, Kansas City, MO 64106. For information on the availability of this material at the FAA, call 816-329-4148.

(5) You may view this service information that is incorporated by reference at the National Archives and Records Administration (NARA). For information on the availability of this material at NARA, email: fr.inspection@nara.gov, or go to: https://www.archives.gov/federal-register/cfr/ibr-locations.html.

Issued on October 15, 2021.
Lance T. Gant,
Director, Compliance & Airworthiness Division, Aircraft Certification Service.

[FR Doc. 2021-24097 Filed 11-3-21; 8:45 am]

BILLING CODE 4910-13-P